DEPARTMENT OF THE INTERIOR

Bureau of Ocean Energy Management

Notice of Public Scoping Meetings on an Environmental Impact Statement for Proposed Outer Continental Shelf Gulf of Mexico Eastern Planning Area Oil and Gas Lease Sales 225 and 226

AGENCY: Bureau of Ocean Energy Management (BOEM), Interior.

ACTION: Notice of public scoping meetings and request for comments.

SUMMARY: The Proposed Outer Continental Shelf (OCS) Oil and Gas Leasing Program for 2012-2017 (Proposed Program) schedules two potential lease sales, Proposed Lease Sales 225 and 226, to accommodate anticipated industry interest in the portion of the Gulf of Mexico (GOM) Eastern Planning Area (EPA) that is not currently subject to the Congressionally-mandated leasing moratorium. This notice describes the public scoping process that BOEM is initiating in preparation for completing an Environmental Impact Statement (EIS) under the National Environmental Policy Act (NEPA) relating to these two proposed sales. While it is necessary to commence the presale information gathering process before finalizing the Five-Year OCS Oil and Gas Leasing Program for 2012-2017 in order to conform to the schedule in the Proposed Program, this scoping and EIS process will be terminated in the event that Lease Sales 225 and 226 are not included in the Final Program.

Pursuant to the regulations implementing the procedural provisions of the NEPA of 1969, as amended (42 U.S.C. 4321 et seq. [1988]), BOEM will hold public scoping meetings to solicit information to assist in a determination of the significant issues to be addressed and their scope, and to identify mitigating measures and alternatives. This information will be used in the preparation of an EIS to evaluate the potential environmental effects of proposed Lease Sales 225 and 226. BOEM has planned five scoping meetings in April 2012 to provide opportunities for public participation and comment as part of the process for evaluating proposed Lease Sales 225 and 226. BOEM also will use and coordinate the NEPA public comment process to satisfy the requirement for public involvement under Section 106 of the National Historic Preservation Act (16 U.S.C. 470f), as provided for in 36 CFR 800.2(d)(3).

Throughout the scoping process, Federal, State, Tribal, and local governments and the general public have the opportunity to aid BOEM in determining the significant issues, reasonable alternatives, and potential mitigating measures to be analyzed in the EIS, as well as to provide additional information. Possible alternatives for analysis may represent a range of levels of activities, including: (1) The proposed action (holding the Lease Sale); (2) taking no action (canceling or postponing the sale); (3) defining appropriate restrictions on oil and gas activities based on environmental resources that are present; and/or (4) defining temporal or spatial work windows to accommodate the existing use of OCS space important to other critical national missions. Additional alternatives developed through scoping and NEPA evaluation will be considered and may also be evaluated. BOEM will receive statements, oral and written, at the venues listed below. All persons wishing to speak will have the opportunity to do so. Time limits may be set on speakers to allow time for all speakers to participate. The following public scoping meetings are planned for proposed Lease Sales 225 and 226:

• Tuesday, April 3, 2012, Tallahassee, Florida: Tallahassee Community College, 444 Appleyard Drive, Tallahassee, Florida; at 1 p.m. EDT;

• Wednesday, April 4, 2012, Panama City Beach, Florida: Wyndham Bay Point Resort, 4114 Jan Cooley Drive, Panama City Beach, Florida; two meetings, the first beginning at 1 p.m. CDT and the second beginning at 6 p.m. CDT;

• Thursday, April 5, 2012, Mobile, Alabama: Five Rivers—Alabama's Delta Resource Center, 30945 Five Rivers Boulevard, Spanish Fort, Alabama; at 1 p.m. CDT; and

• Monday, April 9, 2012, New Orleans, Louisiana: BOEM, GOM OCS Region, 1201 Elmwood Park Boulevard, New Orleans, Louisiana; at 1 p.m. CDT.

Procedures for submitting written comments via mail and electronically are also detailed below.

SUPPLEMENTARY INFORMATION: Proposed Lease Sales 225 and 226 are tentatively scheduled for 2014 and 2016 under the Proposed Program. The previous lease sale in the EPA, Lease Sale 224, was held on March 19, 2008. The EIS that will be prepared subsequent to this scoping process will analyze an area in the EPA that was addressed in Gulf of Mexico OCS Oil and Gas Lease Sale 224: Eastern Planning Area, Final Supplemental Environmental Impact Statement (OCS EIS/EA MMS 2007-060), plus a 109,977-acre triangular area located immediately south of the Lease Sale 224 area. The area for proposed Lease Sales 225 and 226 covers approximately 657,905 acres in the EPA and is south of eastern Alabama and western Florida; the nearest point of land to the lease sale area is 125 miles north to Florida. The Call for Information and Nominations/Notice of Intent to prepare an EIS was published in the Federal Register on November 18, 2011. This Federal Register notice is not an announcement to hold the proposed lease sales, but it is a continuation of information gathering and an early step in the environmental review process required by NEPA. The comments received during the scoping meetings and public comment period will help form the content of the EIS and will be summarized in the presale documentation prepared prior to holding a lease sale.

Comments: In addition to, or in lieu of participation in the scoping meetings listed above, all interested parties, including Federal, State, Tribal, and local governments and the general public, may submit written comments on the scope of the EIS, significant issues that should be addressed, alternatives that should be considered, potential mitigating measures and the types of oil and gas activities of interest in the proposed lease sale area.

Written scoping comments may be submitted in one of the following two ways:

1. In written form enclosed in an envelope labeled “Scoping for Proposed EPA Lease Sales 225 and 226” and mailed (or hand delivered) to Mr. Gary D. Goeke, Chief, Regional Assessment Section, Office of Environment (MS 5410), BOEM, GOM OCS Region, 1201 Elmwood Park Boulevard, New Orleans, Louisiana 70123-2394; or

2. Electronically to the BOEM email address: boemegomeis@BOEM.gov.

Petitions, although accepted, do not generally provide more weight or useful information than a single comment to assist in scoping. Please include your name and address as part of your submittal; BOEM does not consider anonymous comments. BOEM makes all comments, including the names and addresses of respondents, available for public review during regular business hours. Individual respondents may request that BOEM withhold their name and/or address from the public record; this request will be honored to the extent allowable by law. If you wish your name and/or address to be withheld, you must state your preference prominently at the beginning of your comment. All submissions from organizations or businesses and from individuals identifying themselves as representatives or officials of organizations or businesses will be made available for public inspection in their entirety.

DATES: Comments should be submitted no later than May 4, 2012 to the address or email address specified above.

FOR FURTHER INFORMATION CONTACT: For information on the EIS, public scoping meetings, the submission of comments, or BOEM's policies associated with this notice, please contact Mr. Gary D. Goeke, Chief, Regional Assessment Section, Office of Environment (MS 5410), BOEM, GOM OCS Region, 1201 Elmwood Park Boulevard, New Orleans, LA 70123-2394, telephone (504) 736-3233.

Dated: March 14, 2012.
Tommy P. Beaudreau,
Director, Bureau of Ocean Energy Management.

[FR Doc. 2012-6724 Filed 3-19-12; 8:45 am]

BILLING CODE 4310-VH-P